DEPARTMENT OF COMMERCE

International Trade Administration

Initiation of Antidumping and Countervailing Duty Administrative Reviews and Request for Revocation in Part

AGENCY: Import Administration, International Trade Administration, Department of Commerce.

ACTION: Notice of initiation of antidumping and countervailing duty administrative reviews and request for revocation in part.

SUMMARY: The Department of Commerce has received requests to conduct administrative reviews of various antidumping and countervailing duty orders and findings with June anniversary dates. In accordance with the Department's regulations, we are initiating those administrative reviews. The Department also received a request to revoke one antidumping duty order in part.

EFFECTIVE DATE: July 21, 2005.

FOR FURTHER INFORMATION CONTACT: Holly Kuga, Office of AD/CVD Operations, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2002), for administrative reviews of various antidumping and countervailing duty orders and findings with June anniversary dates. The Department also received timely requests to revoke in part the antidumping duty order on Tapered Roller Bearings and Parts Thereof, Finished and Unfinished, from the People's Republic of China.

Initiation of Reviews

In accordance with section 19 CFR 351.221(c)(1)(i), we are initiating administrative reviews of the following antidumping and countervailing duty orders and findings. We intend to issue the final results of these reviews not later than June 30, 2006.

| Period to be reviewed
Antidumping duty proceedings
Japan: Certain Large Diameter Carbon and Alloy Seamless Standard, Line and Pressure Pipe, A-588-850 | 06/01/04-05/31/05
JFE Stell Corporation
Nippon Steel Corporation
NKK Tubes
Sumitomo Metal Industries, Ltd.
Japan: Certain Hot-Rolled Carbon Steel Flat Products, A-588-846 | 06/01/04-05/31/05
Kawasaki Steel Corporation
JFE Steel Corp.
Taiwan: Carbon Steel Plate, A-583-080 | 06/01/04-05/31/05
China Steel Corporation
Taiwan: Certain Stainless Steel Butt-Weld Pipe Fittings, A-583-816 | 06/01/04-05/31/05
Censor International Corporation
Liang Feng Stainless Steel Fitting Co., Ltd.
PFP Taiwan Co., Ltd.
Ta Chen Stainless Steel Pipe Co., Ltd.
Tru-Flow Industrial Co., Ltd.
The People's Republic of China: Folding Metal Tables and Chairs ¹, A-570-868 | 06/01/04-05/31/05
Anji Jiu Zhou Machinery Co., Ltd.
Feili Furniture Development Limited Quanzhou City
Feili Furniture Development Co., Ltd.
Feili Group (Fujian) Co., Ltd.
Feili (Fujian) Co., Ltd.
New-Tec Integration (Xiamen) Co., Ltd.
Xiamen Zehui Industry Trade Co.
Yixiang Blow Mold Yuyao Co., Ltd.
Tapered Roller Bearings ², A-570-601 | 06/01/04-05/31/05
Cina National Machinery Import & Export Corp.
Chin Jun Industrial Ltd.
Peer Bearing Company-Changshan
Weihai Machinery Holding (Group) Company Ltd.
Yantai Timken Company Limited
Zhejiang Machinery Import & Export Corp.
¹ If one of the above named companies does not qualify for a separate rate, all other exporters of folding metal tables and chairs from the People's Republic of China who have not qualified for a separate rate are deemed to be covered by this review as part of the single PRC entity of which the named exporter is a part.
² If one of the above named companies does not qualify for a separate rate, all other exporters of tapered roller bearings from the People's Republic of China who have not qualified for a separate rate are deemed to be covered by this review as part of the single PRC entity of which the named exporter is a part.

Countervailing Duty Proceedings

None.

Suspension Agreements

None.

During any administrative review covering all or part of a period falling between the first and second or third and fourth anniversary of the publication of an antidumping duty order under § 351.211 or a determination under § 351.218(f)(4) to continue an order or suspended investigation (after sunset review), the Secretary, if requested by a domestic interested party within 30 days of the date of publication of the notice of initiation of the review, will determine, consist with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: July 15, 2005.
Holly A. Kuga,
Senior Office Director, AD/CVD Operations, Office 4 for Import Administration.

[FR Doc. 05-14454 Filed 7-20-05; 8:45 am]

BILLING CODE 3510-DS-M